DEPARTMENT OF HOMELAND SECURITY

Coast Guard

33 CFR Part 160

[USCG-2006-25150; Correction]

RIN 1625-ZA08

Navigation and Navigable Waters; Technical, Organizational, and Conforming Amendments

AGENCY: Coast Guard, DHS.

ACTION: Final rule; correcting amendments.

SUMMARY: This document contains a correction to the section addressing appeals for orders issued pursuant to the Coast Guard's regulations implementing the Ports and Waterways Safety Act (USCG-2006-25150) published on July 12, 2006, in the Federal Register (71 FR 39206).

DATES: This correction is effective April 9, 2007.

ADDRESSES: Comments and material received from the public, as well as documents mentioned in this preamble as being available in the docket, are part of docket USCG-2006-25150 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this rule, call Commander Michael Cunningham, Coast Guard, telephone 202-372-1129. If you have questions on viewing the docket, call Ms. Renee V. Wright, Program Manager, Docket Operations, telephone 202-493-0402.

SUPPLEMENTARY INFORMATION: Each year Title 33 of the Code of Federal Regulations is updated on July 1. On July 12, 2006, the Coast Guard published a final rule (USCG-2006-25150) to make technical, organizational, conforming amendments and other editorial corrections throughout Title 33. (71 FR 39206) Due to a drafting error in the July 12th final rule the appeals process in § 160.7 is now deficient. The July 12th final rule ascribes authorities not within the realm of the Area Commander and does not clearly allow for an appeal of Area Commander decisions to Coast Guard Headquarters. This correction document makes corrections to the revisions in § 160.7 found in the July 12th final rule.

List of Subjects in 33 CFR Part 160

Administrative practice and procedure, Harbors, Hazardous materials transportation, Marine safety, Navigation (water), Reporting and recordkeeping requirements, Vessels, Waterways.

Accordingly, 33 CFR part 160 is corrected by making the following correcting amendments:

PART 160—PORTS AND WATERWAYS SAFETY—GENERAL

1. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

2. Amend § 160.7 to revise paragraphs (c) and (d) to read as follows:

§ 160.7 Appeals.

* * * * *

(c) Any person directly affected by the establishment of a safety zone or by an order or direction issued by, or on behalf of, a District Commander, or who receives an unfavorable ruling on an appeal taken under paragraph (b) of this section may appeal to the Area Commander through the District Commander. The appeal must be in writing, except as allowed under paragraph (e) of this section, and shall contain complete supporting documentation and evidence which the appellant wishes to have considered. Upon receipt of the appeal, the Area Commander may direct a representative to gather and submit documentation or other evidence which would be necessary or helpful to a resolution of the appeal. A copy of this documentation and evidence is made available to the appellant. The appellant is afforded five working days from the date of receipt to submit rebuttal materials. Following submission of all materials, the Area Commander issues a ruling, in writing, on the appeal. Prior to issuing the ruling, the Area Commander may, as a matter of discretion, allow oral presentation on the issues.

(d) Any person who receives an unfavorable ruling on an appeal taken under paragraph (c) of this section, may appeal through the Area Commander to the Assistant Commandant for Prevention (formerly known as the Assistant Commandant for Marine Safety, Security and Environmental Protection), U.S. Coast Guard, Washington, DC 20593. The appeal must be in writing, except as allowed under paragraph (e) of this section. The Area Commander forwards the appeal, all the documents and evidence which formed the record upon which the order or direction was issued or the ruling under paragraph (c) of this section was made, and any comments which might be relevant, to the Assistant Commandant for Prevention. A copy of this documentation and evidence is made available to the appellant. The appellant is afforded five working days from the date of receipt to submit rebuttal materials to the Assistant Commandant for Prevention. The decision of the Assistant Commandant for Prevention is based upon the materials submitted, without oral argument or presentation. The decision of the Assistant Commandant for Prevention is issued in writing and constitutes final agency action.

* * * * *

Dated: March 27, 2007.
Stefan G. Venckus,
Chief, Office of Regulations and Administrative Law, United States Coast Guard.

[FR Doc. E7-6099 Filed 4-6-07; 8:45 am]

BILLING CODE 4910-15-P